ENVIRONMENTAL PROTECTION AGENCY

[FRL-8318-4]

Underground Injection Control Program Petition for Exemption From Hazardous Waste Disposal Restrictions to the Resource Conservation and Recovery Act Class I Hazardous Waste Injection Occidental Chemical Corporation, Wichita, KS

AGENCY: Environmental Protection Agency (EPA).

ACTION: Notice of final decision on petition.

SUMMARY: Notice is hereby given that an exemption to the land disposal restrictions under the 1984 Hazardous and Solid Waste Amendments to the Resource Conservation and Recovery Act has been granted to Occidental Chemical Corporation (Occidental) for a Class I injection well, identified as Well Number 10, located at Wichita, Kansas. This injection well, is being added to an existing group of five hazardous waste injection wells which EPA had approved in 1990. As required by title 40 Code of Federal Regulations (CFR) part 148, Occidental has adequately demonstrated to the satisfaction of the Environmental Protection Agency by petition and supporting documentation that, to a reasonable degree of certainty, there will be no migration of hazardous waste out of the designated injection zone for as long as the waste remains hazardous. This time frame is defined by 40 CFR 148.20 as 10,000 years. This final decision allows the underground injection by Occidental of the specific restricted waste, identified in the petition, into injection well Number 10 at the Wichita, Kansas facility, for as long as the basis for granting an approval of the petition remains valid, under provisions of 40 CFR 148.24. For the purpose of the required demonstration of no-migration of hazardous waste out of the injection zone over a 10,000 year period, modeling and projections were based on an operational lifetime projection date of December 31, 2020. Therefore, on or by the closing date of the aforementioned operation period, the owner/operator will be required to obtain an exemption re-issuance from EPA. Included in this approval is the stipulation that Occidental acquires and continues to maintain an approved permit from the Kansas Department of Health and Environment. As required by 40 CFR 124.10, a public notice was issued on February 26, 2007. In addition to having solicited written comments regarding the Agency's proposed approval, EPA also announced that a formal public hearing would be held if there was a significant degree of public interest, but no interest was expressed, hence no formal public hearing was conducted; however, EPA held an informal Public Availability Session on March 13, 2007, at the Sedgwick County Extension Office in Wichita, Kansas, in order to provide the public with an opportunity to meet with Federal, State, and company officials and ask questions regarding the petition. The public comment period ended on April 11, 2007. All comments were addressed and considered in the final decision. This decision constitutes final Agency action and there is no administrative appeal process that can be applied to a final petition decision.

DATES: Effective Date: This action is effective as of May 2, 2007.

ADDRESSES: Copies of the petition and all pertinent information relating thereto, including the Agency's response to comments, are on file at the following location: Environmental Protection Agency, Region 7, Regional Records Center, 901 N. 5th St., Kansas City, KS 66101.

FOR FURTHER INFORMATION CONTACT: Mary T. Mindrup, Chief, Drinking Water Management Branch, Environmental Protection Agency, Region 7. Telephone (913) 551-7431, or e-mail to mindrup.mary@epa.gov.

Dated: May 2, 2007.
John B. Askew,
Regional Administrator, Region 7.

[FR Doc. E7-10118 Filed 5-24-07; 8:45 am]

BILLING CODE 6560-50-P